ENVIRONMENTAL PROTECTION AGENCY

[FRL-6944-6]

Agency Information Collection Activities

AGENCY: Environmental Protection Agency (EPA).

ACTION: Notice.

SUMMARY: In compliance with the Paperwork Reduction Act (44 U.S.C. 3501 et seq.), this notice announces that EPA is planning to submit the following proposed and/or continuing Information Collection Requests (ICRs) to the Office of Management and Budget (OMB). Before submitting the ICRs to OMB for review and approval, EPA is soliciting comments on specific aspects of the proposed information collections as described below.

DATES: Comments must be submitted on or before April 16, 2001.

ADDRESSES: U.S. Environmental Protection Agency, 1200 Pennsylvania Avenue, NW., Mail Code 2225A, OECA/OC/AD, Washington, DC 20460. A copy of this ICR may be obtained from Stephen Howie, tel: (202) 564-4146; e-mail: howie.stephen@epa.gov.

FOR FURTHER INFORMATION CONTACT: Stephen Howie, tel: (202) 564-4146; FAX: (202) 564-0085; e-mail: howie.stephen@epa.gov.

SUPPLEMENTARY INFORMATION: Affected Entities: Entities potentially affected by this action are those which produce pesticides.

Title: Recordkeeping Requirements for Producers of Pesticides under section 8 of the Federal Insecticide, Fungicide, and Rodenticide Act as amended (FIFRA). ICR Number 0143.07. OMB Control Number 2070-0028. Expires 8/31/01.

Abstract: Section 8 of the Federal Insecticide, Fungicide, and Rodenticide Act (FIFRA) states that the Administrator of the Environmental Protection Agency may prescribe regulations requiring producers, registrants and applicants for registration to maintain such records with respect to their operations and the effective enforcement of this Act as the Administrator determines are necessary for the effective enforcement of FIFRA and to make such records available for inspection and copying as specified in the statute. The regulations at 40 CFR part 169 (Books and Records of Pesticide Production and Distribution) specify the following records that producers must keep and the disposition of those records: Production data for pesticides, devices, or active ingredients (including pesticides produced pursuant to an experimental use permit); receipt by the producer of pesticides, devices, or active ingredients used in producing pesticides; delivery, moving, or holding of pesticides; inventory; domestic advertising for restricted use pesticides; guarantees; exports; disposal; human testing; and tolerance petitions. Additionally, section 8 gives the Agency inspectional authority to monitor the validity of research data (including raw data), including data developed in accordance with Good Laboratory Practice Standards, and used to support pesticide registration. The EPA or States/Indian Tribes operating under Cooperative Enforcement Agreements make use of the records required by section 8 through periodically inspecting them to help determine FIFRA compliance of those subject to the provisions of the Act. In addition, producers themselves make use of such records in order to comply with reporting requirements under FIFRA section 7 and 40 CFR 167.85. (Those reporting requirements, concerning the types and amounts of pesticides produced annually at each producing site, are addressed in the ICR entitled “Pesticide Report for Pesticide-Producing Establishments,” OMB Docket Number 2000-0029.)

Since most of the records required to be maintained are likely to be collected and maintained in the course of good business practice, the records are generally stored on site at either the establishment producing the pesticide or at the place of business of the person holding the registration. However, the registrant may decide to transfer records relating to disposal of pesticides and human testing to EPA for storage because of a twenty year retention requirement for the records. An Agency may not conduct or sponsor, and a person is not required to respond to, a collection of information unless it displays a currently valid OMB control number. The OMB control numbers for EPA's regulations are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden: The average annual burden to the industry over the next three years is estimated to be 2 person hours per response.

Respondents/Affected Entities: 12,336.

Estimated Number of Respondents: 12,336.

Frequency of Responses: 1.

Estimated Total Annual Hour Burden: 24,672.

There are no capital/startup costs or operating and maintenance (O&M) costs associated with this ICR since all equipment associated with this ICR is present as part of ordinary business practices.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 22, 2001.
Richard Colbert,
Director, Agriculture Division, Office of Compliance, Office of Enforcement and Compliance Assurance.

[FR Doc. 01-3618 Filed 2-12-01; 8:45 am]

BILLING CODE 6560-50-U